DEPARTMENT OF ENERGY

Federal Energy Regulatory Commission

Combined Notice of Filings

Take notice that the Commission has received the following Natural Gas Pipeline Rate and Refund Report filings:

Filings Instituting Proceedings

Docket Numbers: RP13-822-000.

Applicants: Elba Express Company, L.L.C.

Description: Annual Fuel Tracker Filing of Elba Express Company, L.L.C.

Filed Date: 4/29/13.

Accession Number: 20130429-5050.

Comments Due: 5 p.m. ET 5/13/13.

Docket Numbers: RP13-823-000.

Applicants: CenterPoint Energy—Mississippi River T.

Description: Negotiated Rate Filing Effective May 1, 2013 to be effective 5/1/2013.

Filed Date: 4/29/13.

Accession Number: 20130429-5099.

Comments Due: 5 p.m. ET 5/13/13.

Docket Numbers: RP13-824-000.

Applicants: ANR Pipeline Company.

Description: ANR Pipeline Company Operational Purchases and Sales Report for 12 Months Ending December 31, 2012.

Filed Date: 4/29/13.

Accession Number: 20130429-5107.

Comments Due: 5 p.m. ET 5/13/13.

Docket Numbers: RP13-825-000.

Applicants: Gulf Crossing Pipeline Company LLC.

Description: Amendments to Neg Rate Agmts (Vanguard 597-7 and 598-8) to be effective 5/1/2013.

Filed Date: 4/29/13.

Accession Number: 20130429-5111.

Comments Due: 5 p.m. ET 5/13/13.

Docket Numbers: RP13-826-000.

Applicants: Gulf Crossing Pipeline Company LLC.

Description: Amendment to Neg Rate Agmt—JP Morgan 156-5 to be effective 5/1/2013.

Filed Date: 4/29/13.

Accession Number: 20130429-5112.

Comments Due: 5 p.m. ET 5/13/13.

Docket Numbers: RP13-827-000.

Applicants: Petal Gas Storage, L.L.C.

Description: Non-conforming Service Agmt—PSEG to be effective 5/1/2013.

Filed Date: 4/29/13.

Accession Number: 20130429-5116.

Comments Due: 5 p.m. ET 5/13/13.

Docket Numbers: RP13-828-000.

Applicants: Gulf South Pipeline Company, LP.

Description: Amendment to Neg Rate Agmt—QEP 37657-29 to be effective 5/1/2013.

Filed Date: 4/29/13.

Accession Number: 20130429-5122.

Comments Due: 5 p.m. ET 5/13/13.

Docket Numbers: RP13-829-000.

Applicants: Gulf South Pipeline Company, LP.

Description: Cap Rel Neg Rate Agmt—Willmut 35221 to BP Energy 40900 to be effective 5/1/2013.

Filed Date: 4/29/13.

Accession Number: 20130429-5131.

Comments Due: 5 p.m. ET 5/13/13.

Docket Numbers: RP13-830-000.

Applicants: Gulf South Pipeline Company, LP.

Description: Cap Rel Neg Rate Agmt (QEP 37657 to Texla 40899) to be effective 5/1/2013.

Filed Date: 4/29/13.

Accession Number: 20130429-5135.

Comments Due: 5 p.m. ET 5/13/13.

Docket Numbers: RP13-831-000.

Applicants: ANR Storage Company.

Description: ANR Storage Company Operational Purchases and Sales of Gas Report for 12 Months Ending December 31, 2013.

Filed Date: 4/29/13.

Accession Number: 20130429-5181.

Comments Due: 5 p.m. ET 5/13/13.

Docket Numbers: RP13-832-000.

Applicants: Bison Pipeline LLC.

Description: Bison Pipeline LLC Operational Purchases and Sales Report for 12 Months Ending December 31, 2012.

Filed Date: 4/29/13.

Accession Number: 20130429-5185.

Comments Due: 5 p.m. ET 5/13/13.

Docket Numbers: RP13-833-000.

Applicants: Great Lakes Gas Transmission Limited Par.

Description: Great Lakes Gas Transmission Limited Partnership Operational Purchases and Sales of Gas Report for 12 Months Ending December 31, 2012.

Filed Date: 4/29/13.

Accession Number: 20130429-5189.

Comments Due: 5 p.m. ET 5/13/13.

Docket Numbers: RP13-834-000.

Applicants: Northern Border Pipeline Company.

Description: Northern Border Pipeline Company Operational Purchases and Sales of Gas Report for 12 Months Ending December 31, 2012.

Filed Date: 4/29/13.

Accession Number: 20130429-5191.

Comments Due: 5 p.m. ET 5/13/13.

Docket Numbers: RP13-835-000.

Applicants: Blue Lake Gas Storage Company.

Description: Blue Lake Gas Storage Company Operational Purchases and Sales of Gas Report for 12 Months Ending December 31, 2012.

Filed Date: 4/29/13.

Accession Number: 20130429-5309.

Comments Due: 5 p.m. ET 5/13/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated April 30, 2013.
Nathaniel J. Davis, Sr.,
Deputy Secretary

[FR Doc. 2013-10732 Filed 5-6-13; 8:45 am]

BILLING CODE 6717-01-P